DEPARTMENT OF THE INTERIOR

Bureau of Land Management

[LLCAN01000.L18200000.XZ0000]

Notice of Public Meeting: Northeast California Resource Advisory Council Sage Grouse Conservation Subcommittee and Resource Advisory Council

AGENCY: Bureau of Land Management, Interior.

ACTION: Notice of public meetings.

SUMMARY: In accordance with the Federal Land Policy and Management Act of 1976 (FLPMA), and the Federal Advisory Committee Act of 1972 (FACA), the U. S. Department of the Interior, Bureau of Land Management (BLM) Northeast California Resource Advisory Council's sage grouse conservation subcommittee and the full Resource Advisory Council will meet as follows.

DATES: The subcommittee will meet Tuesday, November 12, 2013, at 10 a.m. at the Bureau of Land Management's Eagle Lake Field Office, 2950 Riverside Dr., Susanville, California. The full advisory council will meet Wednesday, Dec. 4, at 10 a.m., also at the BLM Eagle Lake Field Office. Both meetings are open to the public.

FOR FURTHER INFORMATION CONTACT: Nancy Haug, BLM Northern California District manager, (530) 224-2160; or Joseph J. Fontana, BLM public affairs officer, (530) 252-5332.

SUPPLEMENTARY INFORMATION: The subcommittee was formed by the 15-member Northeast California Resource Advisory Council to work on issues associated with amending the BLM's Alturas, Eagle Lake and Surprise Field Office Resource Management Plans to incorporate regulatory mechanisms for conservation of sage grouse habitat. On November 12, the subcommittee will develop a recommendation for consideration by the full advisory council. On December 4, the full advisory council will consider subcommittee recommendations and consider a proposal for the BLM. The council also will hear status reports on other land use planning matters on northeast California public lands. Public comments will be taken at 2 p.m. The Northeast California Resource Advisory Council advises the Secretary of the Interior, through the BLM, on a variety of planning and management issues associated with public land management in northeast California and the northwest corner of Nevada. Members of the public who plan to attend and need special assistance, such as sign language interpretation and other reasonable accommodations, should contact the BLM as provided above.

Dated: September 10, 2013.
Joseph J. Fontana,
Public Affairs Officer.

[FR Doc. 2013-23455 Filed 9-25-13; 8:45 am]

BILLING CODE 4310-40-P